ENVIRONMENTAL PROTECTION AGENCY

[FRL-7419-7]

Agency Information Collection Activities: Proposed Collection; Comment Request: NSPS for Coal Preparation Plants (40 CFR Part 60, Subpart Y); EPA ICR Number 1062.08; OMB Control Number 2060-0122; Expiration Date February 28, 2003

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): NSPS for Coal Preparation Plants (40 CFR part 60, subpart Y); EPA ICR Number 1062.08; OMB Control Number 2060-0122; expiration date February 28, 2003. Before submitting the ICR to OMB for review and approval, EPA is soliciting comments on specific aspects of the proposed information collection as described below.

DATES: Comments must be submitted on or before February 7, 2003.

ADDRESSES: Compliance Assessment and Media Programs Division, Office of Compliance, Office of Enforcement and Compliance Assurance, Mail Code 2223A, United States Environmental Protection Agency, 1200 Pennsylvania Avenue, NW., Washington, DC 20460. A hard copy of a specific ICR may be obtained without charge by calling or sending an E-mail to the contact person listed in this notice.

FOR FURTHER INFORMATION CONTACT: Dan L. Chadwick of the Office of Compliance at (202) 564-0754 or via E-mail at Chadwick.Dan@epa.gov and ask for EPA ICR Number 1062.08; OMB Control Number 2060-0122; expiration date February 28, 2003.

SUPPLEMENTARY INFORMATION: Title: NSPS for Coal Preparation Plants (40 CFR Part 60, Subpart Y); EPA ICR Number 1062.08; OMB Control Number 2060-0122; expiration date February 28, 2003.

Affected Entities: Entities potentially affected by this action are owners or operators of coal preparation plants subject to the Clean Air Act New Source Performance Standards (NSPS) published 40 CFR part 60, subpart Y.

Abstract: The Agency has determined that the emissions from coal preparation plants cause, or contribute significantly to air pollution that may reasonably be anticipated to endanger public health or welfare. As such, the Agency published a standard at 40 CFR part 60, subpart Y to control emissions from coal preparation plants.

Owners or operators of coal preparation plants must make certain one-time-only notifications including: notification of any physical or operational change to an existing facility which may increase the regulated pollutant emission rate, notification of the initial performance test; including information necessary to determine the conditions of the performance test, and performance test measurements and results; notification of demonstration of the continuous monitoring system (CMS). Owners or operators are also required to maintain records of the occurrence and duration of any start-up, shutdown, or malfunction in the operation of an affected facility, or any period during which the CMS is inoperative. CMS requirements specific to coal preparation plants provide information on the operation of the emissions control device and compliance with the opacity standard. Periodic reports of excess emissions are also required. Any owner or operator subject to the rule shall maintain a file of these measurements, and retain the file for at least two years following the date of such measurements, maintenance reports, and records.

Burden Statement: The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

In the previously approved ICR, the estimated number of respondents for this information collection was 390 with 390 responses per year. The annual industry reporting and recordkeeping burden for this collection of information was 15,463 hours. On the average, each respondent reported once per year and approximately 40 hours were spent preparing each response. The total annual reporting and recordkeeping cost burden for this collection of information was $15,000. This included an annual cost of $1,000 associated with capital/startup costs and $14,000 associated with the annual operation and maintenance costs.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations are listed in 40 CFR part 9 and 48 CFR chapter 15.

Dated: November 27, 2002.
Michael M. Stahl,
Director, Office of Compliance.

[FR Doc. 02-31016 Filed 12-6-02; 8:45 am]

BILLING CODE 6560-50-P